DEPARTMENT OF COMMERCE

Foreign-Trade Zones Board

[Order No. 1330]

Grant of Authority for Subzone Status; Wacker Chemical Corporation (Silicone and Ceramics Products); Adrian, MI

Pursuant to its authority under the Foreign-Trade Zones Act, of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR Part 400) provide for the establishment of special-purpose subzones when existing zone facilities cannot serve the specific use involved, and when the activity results in a significant public benefit and is in the public interest;

Whereas, the Greater Detroit Foreign-Trade Zone, Inc., grantee of Foreign-Trade Zone 70, has made application to the Board for authority to establish a special-purpose subzone at the silicones and ceramics products manufacturing and warehousing facilities of Wacker Chemical Corporation, located in Adrian, Michigan (FTZ Docket 29-2003, filed 6/18/03);

Whereas, notice inviting public comment was given in the Federal Register (68 FR 38009, 6-26-03) and the comment period was extended (68 FR 51549, 8/27/03; 68 FR 54887, 9/19/03; 68 FR 61790, 10/30/03; 68 FR 67400, 12/2/03; 68 FR 68590 12/9/03); and,

Whereas, the Board adopts the findings and recommendations of the examiner's report, and finds that the requirements of the FTZ Act and the Board's regulations would be satisfied, and that approval of the application would be in the public interest if approval is subject to the conditions listed below;

Now, therefore, the Board hereby grants authority for subzone status at the silicones and ceramics products manufacturing and warehousing facilities of Wacker Chemical Corporation, located in Adrian, Michigan (Subzone 70U), at the location described in the application, and subject to the FTZ Act and the Board's regulations, including § 400.28, and subject to the following conditions:

1. Privileged foreign status (19 CFR Part 146.41) shall be elected on foreign merchandise that falls under HTSUS Subheadings #3204 and #3206.

2. Foreign merchandise admitted to the zone that falls under HTSUS Subheadings #3204.14, #3204.17 and #3206.49 shall be limited to 300,000 KG per year.

Signed at Washington, DC, this 22nd day of April, 2004.
James J. Jochum,
Assistant Secretary of Commerce for Import Administration, Alternate Chairman, Foreign-Trade Zones Board.

[FR Doc. 04-10669 Filed 5-10-04; 8:45 am]

BILLING CODE 3510-DS-P